DEPARTMENT OF JUSTICE

Office of Justice Programs

Agency Information Collection Activities: Proposed Collection; Comments Requested

ACTION: 30-day notice of information collection under review: State Court Processing Statistics, 2006.

The Department of Justice (DOJ), Office of Justice Programs (OJP) has submitted the following information collection request to the Office of Management and Budget (OMB) for review and approval in accordance with the Paperwork Reduction Act of 1995. The proposed information collection is published to obtain comments from the public and affected agencies. This proposed information collection was previously published in the Federal Register Volume 70, Number 191, page 57896 on October 4, 2005, allowing for a 60-day comment period.

The purpose of this notice is to allow for an additional 30 days for public comment until January 23, 2006. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additionally, comments may be submitted to OMB via facsimile to (202) 395-5806. Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of information collection: New information collection.

(2) The title of the form/collection: State Court Processing Statistics, 2006.

(3) The agency form number, if any, and the applicable component of the Department sponsoring the collection: Form Number: SCPS-06. Bureau of Justice Statistics, Office of Justice Programs.

(4) Affected public who will be asked or required to respond, as well as a brief abstract: Primary: State, Local, or Tribal Government. Other: Not-for-profit institutions. State Trial Courts and Pretrial Agencies. Abstract: The SCPS project is a recurring data collection involving the examination of felony cases processed in 40 large urban counties chosen to be representative of the 75 largest counties in the U.S. Approximately 15,000 felony cases are tracked for up to 1 year with data collected on the pretrial, adjudication, and sentencing phases of the criminal court process.

(5) An estimate of the total number of respondents and the amount of time estimated for an average respondent to respond: It is estimated that information will be collected on a total of 15,000 felony cases from 40 responding counties. Public reporting burden for this collection of information is estimated to average one hour for each data collection form coded manually and half an hour for each data collection form completed through automated downloads.

(6) An estimate of the total public burden (in hours) associated with the collection: The estimated public burden associated with this collection is 13,850 hours.

If additional information is required contact: Brenda E. Dyer, Department Clearance Officer, United States Department of Justice, Justice Management Division, Suite 1600, 601 D Street, NW., Washington, DC 20530.

Dated: December 20, 2005.
Brenda E. Dyer,
Department Clearance Officer, Department of Justice.

[FR Doc. E5-7765 Filed 12-22-05; 8:45 am]

BILLING CODE 4410-18-P